DEPARTMENT OF THE INTERIOR

Bureau of Land Management

[L14400000 PN0000 HQ350000 212; OMB Control Number 1004-0012]

Agency Information Collection Activities; Application for Land for Recreation or Public Purposes

AGENCY: Bureau of Land Management, Interior.

ACTION: Notice of information collection; request for comment.

SUMMARY: In accordance with the Paperwork Reduction Act of 1995 (PRA), the Bureau of Land Management (BLM) proposes to renew an information collection.

DATES: Interested persons are invited to submit comments on or before October 13, 2021.

ADDRESSES: Written comments and recommendations for this information collection request (ICR) should be sent within 30 days of publication of this notice to www.reginfo.gov/public/do/PRAMain. Find this particular information collection by selecting “Currently under 30-day Review—Open for Public Comments” or by using the search function.

FOR FURTHER INFORMATION CONTACT: To request additional information about this ICR, contact Susie Greenhalgh by email at lgreenhalgh@blm.gov, or by telephone at 202-302-4288. Individuals who are hearing or speech impaired may call the Federal Relay Service at 1-800-877-8339 for TTY assistance. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 4, 2021 (86 FR 23737). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The BLM uses the information collection to decide whether or not to lease or sell certain public lands to applicants under the Recreation and Public Purposes Act, 43 U.S.C. 869 to 869-4. OMB Control Number 1004-0012 is scheduled to expire on October 31, 2021. This request is for OMB to renew this OMB Control Number for an additional three (3) years.

Title of Collection: Application for Land for Recreation or Public Purposes (43 CFR 2740 and 2912).

OMB Control Number: 1004-0012.

Form Number: 2740-01.

Type of Review: Extension of a currently approved collection.

Respondents/Affected Public: State, Territory, County, and Local governments; nonprofit corporations; and nonprofit associations.

Total Estimated Number of Annual Respondents: 23.

Total Estimated Number of Annual Responses: 23.

Estimated Completion Time per Response: 40 hours.

Total Estimated Number of Annual Burden Hours: 920.

Respondent's Obligation: Required to obtain or retain a benefit.

Frequency of Collection: On occasion.

Total Estimated Annual Non-hour Burden Cost: $2,300.

An agency may not conduct or sponsor and, notwithstanding any other provision of law, a person is not required to respond to a collection of information unless it displays a currently valid OMB control number.

The authority for this action is the Paperwork Reduction Act of 1995 (44 U.S.C. 3501 et seq.).

Darrin King,
Information Collection Clearance Officer.

[FR Doc. 2021-19624 Filed 9-10-21; 8:45 am]

BILLING CODE 4310-84-P